DEPARTMENT OF STATE

[Public Notice: 12955]

Defense Trade Advisory Group; Notice of Renewal

AGENCY: Department of State.

ACTION: Notice.

SUMMARY: The U.S. Department of State's Bureau of Political-Military Affairs (the Bureau) is renewing the charter of the Defense Trade Advisory Group (DTAG), and provides the following information, as required by the General Services Administration (GSA).

FOR FURTHER INFORMATION CONTACT: Quartney Ross, 771-205-1984, DTAG@state.gov.

SUPPLEMENTARY INFORMATION: The following information is required by GSA in accordance with the Federal Advisory Committee Act (FACA) Final Rule (41 CFR 102-3.60):

Department of State

Defense Trade Advisory Group

Public Interest Determination

Pursuant to 41 U.S.C. 102-3.60(a), to establish, renew, reestablish, or merge a discretionary (agency discretion) advisory committee, an agency must first consult with the General Services Administration's Committee Management Secretariat (the Secretariat) and, as part of the consultation, provide a written public interest determination approved by the head of the agency to the Secretariat with a copy to the Office of Management and Budget. In addition, pursuant to 41 U.S.C. 102-3.35, an agency shall follow the same consultation process and document in writing the same determination of need before creating a subcommittee under a discretionary committee that is not made up entirely of members of a parent advisory committee.

Information on the following factors for the committee is provided to the Secretariat to demonstrate that renewing the committee is in the public interest:

1. Annual Budget: $230,700.

a. Federal personnel on a full-time equivalent (FTE) basis: 0.50 FTE.

b. Other Federal internal costs: Included in total.

c. Proposed payments to members: None.

d. Proposed number of members: Maximum of 50.

e. Reimbursable costs: No reimbursable costs such as travel expenses.

2. If applicable, the total dollar value of grants expected to be recommended during the fiscal year: Not applicable.

3. Criteria for selecting members to ensure the committee has the necessary expertise and fairly balanced membership:

The DTAG will have a maximum of 50 sector members. The process to identify potential candidates for the DTAG begins with a notice in the Federal Register. The Department will review the information from each applicant, which includes: (1) name of applicant; (2) affirmation of U.S. citizenship; (3) individual or organizational affiliation and title, as appropriate; (4) mailing address; (5) work telephone number; (6) email address; (7) résumé; (8) summary of qualifications for DTAG membership, and (9) confirmation that the applicant is not registered as a Federal lobbyist. The Bureau, with the advice of Department of State attorneys, will strive to maintain and keep balance on the DTAG. Vacancies will be filled during the biannual membership renewal period. DTAG members are invited to serve for a period of two years.

4. List of all other Federal advisory committees of the agency:

• Advisory Committee for the Study of Eastern Europe and the Independent States of the Former Soviet Union (lapsed statutory)

• U.S. National Committee for UNESCO (lapsed statutory)

• Board of Visitors of the Foreign Service Institute

• Advisory Committee on Private International Law

• Advisory Committee on International Postal and Delivery Services

• Cultural Property Advisory Committee

• Advisory Committee on International Law

• Advisory Committee on Historical Diplomatic Documentation

• The President's Emergency Plan for AIDS Relief

• Shipping Coordinating Committee

• United States Advisory Commission on Public Diplomacy

5. Justification that the information or advice provided by the Federal advisory committee or subcommittee is not available from another Federal advisory committee, another Federal Government source, or any other more cost-effective and less burdensome source:

Members of the DTAG are chosen by the Department because they are experts in issues involving defense trade, much more so than individuals who might attend periodic public meetings. The Department creates specific tasks for the DTAG, based on agency needs, related to U.S. laws, policies, and International Traffic in Arms Regulations (ITAR) concerning the export of defense articles, services, and related technical data for Foreign Military Sales and Direct Commercial Sales. The DTAG is uniquely qualified to study the issues presented in the tasks and provide specialized advice and recommendations. This advisory capacity is critical for ensuring that defense trade regulations align with U.S. national security and foreign policy interests.

6. If the consultation is a committee renewal, a summary of the previous accomplishments of the committee and the reasons it needs to continue:

a) The DTAG's input has supported enhancements to the Defense Export Control and Compliance System (DECCS).

b) The DTAG's recommendations were essential for completing DDTC's Compliance Program Guidelines and Compliance Risk Matrix to help industry and academia strengthen compliance.

c) The DTAG's recommendations are essential for the Department's ongoing effort to reduce the regulatory burden on industry related to Part 130 reporting on political contributions and fees.

7. Explanation of why the committee/subcommittee is essential to the conduct of agency business:

The DTAG is the only Department advisory committee exclusively focused on defense trade issues, including U.S. laws, policies, and regulations governing the export of defense articles, services, and related technical data, including both Foreign Military Sales and Direct Commercial Sales. DTAG provides informed advice to the Department on matters affecting defense trade by leveraging the expertise of public and private sector representatives from defense companies, trade associations, law firms, policy institutions, and academia.

This public interest determination documents that renewing the committee is essential to the conduct of agency business and that the information to be obtained is not already available through another advisory committee or source within the Federal Government.

Paula C. Harrison,
Designated Federal Officer, Defense Trade Advisory Group, U.S. Department of State.

[FR Doc. 2026-04153 Filed 3-2-26; 8:45 am]

BILLING CODE 4710-25-P